DEPARTMENT OF HEALTH AND HUMAN SERVICES

National Institutes of Health

Center for Scientific Review Amended; Notice of Meeting

Notice is hereby given of a change in the meeting of the Center for Scientific Review Special Emphasis Panel, June 05, 2015, 04:00 a.m. to June 05, 2015, 06:00 p.m., Hotel Palomar, 2121 P Street NW., Washington, DC, 20037 which was published in the Federal Register on May 11, 2015, 80 FR Pg. 26932.

The meeting will be held at the National Institutes of Health, 6701 Rockledge Drive, Bethesda, MD 20892. The meeting will be held on June 15, 2015 and start at 1:00 p.m. and end at 2:00 p.m. The meeting is closed to the public.

Dated: June 12, 2015.
Carolyn Baum,
Program Analyst, Office of Federal Advisory Committee Policy.

[FR Doc. 2015-15025 Filed 6-18-15; 8:45 am]

BILLING CODE 4140-01-P